DEPARTMENT OF EDUCATION

Office of Special Education and Rehabilitative Services; Grant Applications Under Part D, Subpart 2 of the Individuals With Disabilities Education Act

AGENCY: Department of Education.

ACTION: Extension notice.

SUMMARY: On January 22, 2001, a notice inviting applications for new FY 2001 awards under the Office of Special Education and Rehabilitative Services; Grant Applications under part D, subpart 2 of the Individuals with Disabilities Education Act was published in the Federal Register (66 FR 6832). The notice provided information regarding the transmittal of applications for fiscal year (FY) 2001 competitions under three programs authorized by the Individuals with Disabilities Education Act (IDEA), as amended. The purpose of this notice is to extend the deadline for the transmittal of applications for the priorities included in the notice. The notice contained a “chart” on page 6847 that provided closing dates and other specific information regarding the transmittal of applications for the FY 2001 competitions.

The following is a list of the new deadline dates for the transmittal of applications and the intergovernmental review (Not applicable to Research competitions):

84.324K Research and Training Center on the Development of Infants, Toddlers, and Preschool Children With or At Risk of Disabilities—April 20, 2001

84.324Q Research Institute on Early Literacy for Infants, Toddlers, and Young Children with Visual Impairments—April 20, 2001

84.324T Model Demonstration Projects for Children with Disabilities—April 27, 2001

84.324W Improving Post School Outcomes: Identifying and Promoting What Works—April 20, 2001

84.326H National Clearinghouse on Postsecondary Education—April 20, 2001

Intergovernmental Review—June 19, 2001

84.326T National Technical Assistance Project for Infants, Toddlers, and Children Who Are Deaf-Blind—April 20, 2001

Intergovernmental Review—June 19, 2001

84.327C Video Description—April 20, 2001

Intergovernmental Review—June 19, 2001

84.327E Accessible Educational TV—April 27, 2001

Intergovernmental Review—June 26, 2001

84.327N Open-Captioned Educational Media: Selection, Captioning and Distribution—April 20, 2001

Intergovernmental Review—June 19, 2001

84.327S Closed Captioned Daytime Television Programs—May 4, 2001

Intergovernmental Review—July 3, 2001

84.327X Research Institute on Technology for Early Intervention—May 4, 2001

Intergovernmental Review—July 3, 2001

Note to Applicants

The notice published on January 22, 2001, provides other information that applies to these competitions. Specifically, the priorities in the notice identify the requirements for applications submitted in response to this notice. This notice extends only the closing dates for the transmittal of applications.

Potential applicants should consult the statement of the final priority published in the Federal Register on January 22, 2001 (66 FR 6832) to ascertain the substantive requirements for their applications.

FOR FURTHER INFORMATION CONTACT: For further information on this notice contact Debra Sturdivant, U.S. Department of Education, 600 Independence Avenue, SW, room 3317, Switzer Building, Washington, DC 20202-2641. FAX: (202) 205-8717 (FAX is the preferred method for requesting information). Telephone: (202) 205-8038. Internet: Debra_Sturdivant@ed.gov

If you use a TDD you may call the Federal Information Relay Service (FIRS) at 1-800-877-8339.

Individuals with disabilities may obtain this document in an alternate format (e.g., Braille, large print, audiotape, or computer diskette) on request to the contact persons listed in the preceding paragraph.

Electronic Access to This Document

You may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the previous sites. If you have questions about using PDF, call the U.S. Government Printing Office (GPO), toll free, at 1-888-293-6498; or in the Washington, DC, area at (202) 512-1530.

Note: The official version of this document is published in the Federal Register. Free Internet access to the official edition of the Federal Register and the Code of Federal Regulations is available on GPO Access at: http://www.access.gpo.gov/nara/index.html

(Catalog of Federal Domestic Assistance Number 84.328, Training and Information for Parents of Children with Disabilities).
Dated: March 5, 2001.
Andrew J. Pepin,
Executive Administrator, Office of Special Education and Rehabilitative Services.

[FR Doc. 01-5800 Filed 3-8-01; 8:45 am]

BILLING CODE 4000-01-U